DEPARTMENT OF COMMERCE

National Oceanic and Atmospheric Administration

RIN 0648-XD16

Marine Mammals; File No. 782-1702

AGENCY: National Marine Fisheries Service (NMFS), National Oceanic and Atmospheric Administration (NOAA), Commerce.

ACTION: Notice; issuance of permit amendment.

SUMMARY: Notice is hereby given that NMFS National Marine Mammal Laboratory, 7600 Sand Point Way, NE, Seattle, WA 98115-0070 has been issued an amendment to scientific research Permit No. 782-1702.

ADDRESSES: The amendment and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

FOR FURTHER INFORMATION CONTACT: Tammy Adams or Kate Swails, (301)713-2289.

SUPPLEMENTARY INFORMATION: An amendment to Permit No. 782-1702-04 has been granted under the authority of the Marine Mammal Protection Act of 1972, as amended (16 U.S.C. 1361 et seq.), and the regulations governing the taking and importing of marine mammals (50 CFR part 216).

The amended permit extends the duration of the permit through September 30, 2009 to allow continuation of research on harbor seals (Phoca vitulina), California sea lions (Zalophus californianus), and northern elephant seals (Mirounga angustirostris) in California, Washington, and Oregon. This minor amendment also revokes authority to take Steller sea lions (Eumetopias jubatus). This is the fifth amendment of the subject permit, which was issued originally issued on September 16, 2003 (68 FR 58663).

In compliance with the National Environmental Policy Act of 1969 (42 U.S.C. 4321 et seq.), a final determination has been made that the activity proposed is categorically excluded from the requirement to prepare an environmental assessment or environmental impact statement.

Dated: September 16, 2008.
P. Michael Payne,
Chief, Permits, Conservation and Education Division, Office of Protected Resources, National Marine Fisheries Service.

[FR Doc. E8-21988 Filed 9-18-08; 8:45 am]

BILLING CODE 3510-22-S